DEPARTMENT OF COMMERCE

National Oceanic and Atmospheric Administration

[I.D. 030501B]

Endangered Species; Permits

AGENCY: National Marine Fisheries Service (NMFS), National Oceanic and Atmospheric Administration (NOAA), Commerce.

ACTION: Receipt of an application for a scientific research permit (1299); NMFS has issued modification #2 to permit 1190.

SUMMARY: Notice is hereby given of the following actions regarding permits for takes of endangered and threatened species for the purposes of scientific research and/or enhancement under the Endangered Species Act (ESA): NMFS has received an application for a scientific research permit from Dr. Raymond Carthy, of the Florida Cooperative Fish & Wildlife Research Unit; NMFS has issued modification #2 to permit 1190 to the Regional Administrator of the National Marine Fisheries Service Southwest Region (NMFS-SWR) (1190).

DATES: Comments or requests for a public hearing on any of the new applications or modification requests must be received at the appropriate address or fax number no later than 5 p.m. eastern standard time on April 9, 2001.

ADDRESSES: Written comments on any of the new applications or modification requests should be sent to the appropriate office as indicated below. Comments may also be sent via fax to the number indicated for the application or modification request. Comments will not be accepted if submitted via e-mail or the Internet. The applications and related documents are available for review in the indicated office, by appointment: For permits 1299, 1190: Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION: Authority Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Threatened and endangered Olive ridley turtle (Lepidochelys olivacea)

New Applications Received

Application 1299

The applicant requests a 3-year permit to take juvenile and adult turtles along the St. Joseph Peninsula, in St. Joseph Bay, Florida. The applicant proposes to examine the inter-nesting movements and habitat usage of adult loggerhead turtles along the northwestern coast of Florida, while also examining species composition, population densities and habitat utilization in coastal bays in the same area.

Permits and Modified Permits Issued

Permit #1190

Notice was published on August 31, 2000 (65 FR 52988) that the Regional Administrator, NMFS-SWR had applied for a modification to scientific research permit #1190. The modification request asked for an increase in the authorized take of all five listed turtle species. The increases were necessary due to higher numbers of turtles expected to be handled by observers expected under court mandated requirements. On August 4, 2000 a court order was issued and filed in U.S. District Court, District of Hawaii, requiring the National Marine Fisheries Service (NMFS) to increase its observer coverage to over 20% for the Hawaii longline fishery (historically, NMFS has had a 3%-5% coverage level for the fishery). The modification increased the proposed numbers of turtles to be handled, measured, tagged and have samples collected by observers on longline vessels to: 40 green turtles; 100 leatherback turtles; 600 loggerhead turtles; 40 hawksbill turtles and 100 olive ridley turtles. The increases in maximum takes requested are proportional to the increase in observer coverage required.

The purpose of the research is to document and evaluate the incidental take of pelagic turtles by the longline fishery, to help estimate the impact of the fishery on listed turtles as individuals and as populations, and to determine methods to reduce that impact. Research will evaluate how incidental captures affect sea turtle anatomy and physiology as a function of season, location of take, water temperature, species, size, time of day, and gear configuration. The results of the research will help NMFS to better meet the goals and objectives of the Pacific Sea Turtle Recovery Plans, the Hooking Mortality Workshop, and the requirements of Section 7 Biological Opinions developed for this fishery, and ultimately, to fulfill ESA responsibilities to protect, conserve, and recover listed species.

Modification #2 to Permit #1190 was issued on February 20, 2001, authorizing take of listed species. Permit 1190 expires March 31, 2004.

Dated: March 2, 2001.
Margaret Lorenz,
Acting Chief, Endangered Species Division, Office of Protected Resources, National Marine Fisheries Service.

[FR Doc. 01-5868 Filed 3-8-01; 8:45 am]

BILLING CODE 3510-22-S